DEPARTMENT OF THE TREASURY

Office of the Comptroller of the Currency

Privacy Act of 1974; System of Records

AGENCY: Office of the Comptroller of the Currency (OCC), Department of the Treasury.

ACTION: Notice of a modified system of records.

SUMMARY: In accordance with the Privacy Act of 1974, the Department of the Treasury (“Treasury” or the “Department”), Office of the Comptroller of the Currency, proposes to modify a system of records titled, “Department of the Treasury, Office of the Comptroller .220—Notices of Proposed Changes in Employees, Officers and Directors Tracking System—Treasury/Comptroller.” This electronic system, is used to maintain the applications, background materials, and tracking information related to applications submitted by OCC-regulated entities for approval of employees, proposed directors or senior executive officers of a national bank, federal savings association, or federal branches of foreign banks; and requests from foreign banking supervisors for information about a former or existing employee of an OCC-regulated institution. Records in this system may be contained in an electronic system used by the OCC's Large Bank Supervision examiners or in an electronic system used by the OCC's Midsize and Community Bank supervision examiners, depending on the bank to which the records pertain. Additional copies of information may be contained in paper working files.

DATES: Submit comments on or before November 18, 2019. The new routine use will be applicable on November 18, 2019 unless Treasury receives comments and determines that changes to the system of records notice are necessary.

ADDRESSES: Comments may be submitted to the OCC by any of the methods set forth below. Commenters are encouraged to submit comments through the Federal eRulemaking Portal or email, if possible. Please use the title “Privacy Act” to facilitate the organization and distribution of the comments. You may submit comments by any of the following methods:

Federal eRulemaking Portal—“Regulations.gov”: Go to www.regulations.gov. Enter “Docket ID OCC-2019-0026” in the Search Box and click “Search.” Click on “Comment Now” to submit public comments.

• Click on the “Help” tab on the Regulations.gov home page to get information on using Regulations.gov, including instructions for submitting public comments.

• Email: regs.comments@occ.treas.gov.

• Mail: Legislative and Regulatory Activities Division, Office of the Comptroller of the Currency, 400 7th Street SW, Suite 3E-218, Washington, DC 20219.

• Hand Delivery/Courier: 400 7th Street SW, Suite 3E-218, Washington, DC 20219.

• Fax: (571) 465-4326.

Instructions: You must include “OCC” as the agency name and “Docket ID OCC-2019-0026” in your comment. The OCC will enter all comments received into the docket and publish the comments on the Regulations.gov website without change, including any business or personal information that you provide such as name and address information, email addresses, or phone numbers. All comments received, including attachments and other supporting materials, are part of the public record and subject to public disclosure. All comments received will be posted without change to www.regulations.gov, including any personal information provided. You should submit only information that you wish to make publicly available. Do not include any information in your comment or supporting materials that you consider confidential or inappropriate for public disclosure.

You may review comments and other related materials that pertain to this rulemaking action by any of the following methods:

Viewing Comments Electronically: Go to www.regulations.gov. Enter “Docket ID OCC-2019-0026” in the Search box and click “Search.” Click on “Open Docket Folder” on the right side of the screen. Comments and supporting materials can be viewed and filtered by clicking on “View all documents and comments in this docket” and then using the filtering tools on the left side of the screen.

• Click on the “Help” tab on the Regulations.gov home page to get information on using Regulations.gov. The docket may be viewed after the close of the comment period in the same manner as during the comment period.

Viewing Comments Personally: You may personally inspect comments at the OCC, 400 7th Street SW, Washington, DC 20219. For security reasons, the OCC requires that visitors make an appointment to inspect comments. You may do so by calling (202) 649-6700 or, for persons who are deaf or hearing impaired, TTY, (202) 649-5597. Upon arrival, visitors will be required to present valid government-issued photo identification and submit to security screening in order to inspect comments.

FOR FURTHER INFORMATION CONTACT: For general questions please contact Kristin Merritt, Special Counsel, Administrative and Internal Law Division, (202) 649-5585; for persons who are deaf or hard of hearing, TTY, (202) 649-5597; Stephen Warren, Chief Information Officer, (202) 649-6001; or Ronald Sheldon, Senior Program Analyst (Privacy), Privacy Program Office, (202) 649-5780, Office of the Comptroller of the Currency, 400 7th Street SW, Washington, DC 20219.

SUPPLEMENTARY INFORMATION: In accordance with the Privacy Act, 5 U.S.C. 552a, the Department of the Treasury (“Treasury”), Office of the Comptroller of the Currency proposes to modify a current Treasury system of records titled, “Department of the Treasury, CC .220—Notices of Proposed Changes in Employees, Officers and Directors Tracking System—Treasury/Comptroller.” This notice amends the existing SORN to (1) change the name of the SORN to more accurately describe the system; (2) expand the category of individuals in the system beyond those submitting a notice pursuant to 12 CFR 5.51 to include those for whom background information has been requested by another federal financial institution supervisor or a foreign supervisor; (3) remove from the category of individuals in the system those submitting a notice pursuant to 12 CFR 5.20(g)(2); (4) expand the categories of records to include additional background checks conducted beyond those undertaken pursuant to notices filed under 12 CFR 5.51; (5) expand the categories of records of records, to include information beyond basic tracking information associated with notices submitted under section 5.51 to include notice materials (including interagency biographical and financial reports submitted in connection with those applications) and background check result information; (6) remove from the categories of records information submitted pursuant to notices filed under 12 CFR 5.20(g)(2); and (7) add one routine use to all of the systems of records to share information with other federal agencies or federal entities as required by OMB Memorandum 17-12, “Preparing for and Responding to a Breach of Personally Identifiable Information,” dated January 3, 2017, to assist Treasury/Fiscal Service in responding to a suspected or confirmed breach or prevent, minimize, or remedy the risk of harm to the requesters, Treasury/Office of the Comptroller of the Currency, the Federal Government, or national security.

Dated: May 24, 2019.
Ryan Law,
Deputy Assistant Secretary for Privacy, Transparency and Records.

Editorial note: This document was received for publication by the Office of the Federal Register on October 9, 2019.

SYSTEM NAME AND NUMBER:

Department of the Treasury, Office of the Comptroller of the Currency (OCC) Treasury/OCC .220. Processing, Tracking and Recordkeeping System: 914 and other Background Checks.

SECURITY CLASSIFICATION:

Unclassified.

SYSTEM LOCATION:

Records are maintained at the Supervision Information division, Office of the Comptroller of the Currency, 400 Seventh Street SW, Room 8E-206, Washington, DC 20219-0001; Large Bank Supervisory Information, Office of the Comptroller of the Currency, 400 Seventh Street SW, Room 8W-412, Washington, DC 20219-0001.

SYSTEM MANAGER(S):

Director for Supervisory Information, (202) 649-6693, Office of the Comptroller of the Currency, 400 Seventh Street SW, Room 8E-206, Washington, DC 20219-0001; Supervisory National Bank Examiner, Large Bank Supervisory Information, (202) 649-5002, Office of the Comptroller of the Currency, 400 Seventh Street SW, Room 8W-412, Washington, DC 20219-0001.

AUTHORITY FOR MAINTENANCE OF THE SYSTEM:

12 U.S.C. 1 (as amended), 27, 93a, 481, 1464, 1818, 1820, 1831i, and 5412(b)(2)(b).

PURPOSE(S) OF THE SYSTEM:

The OCC uses information maintained in this system to carry out its statutory and other regulatory responsibilities, including reviews of the qualifications and fitness of individuals who propose to become responsible for the business operations of OCC-regulated entities; assisting other federal financial institution supervisors in such reviews; and responding to requests from foreign supervisors requiring information in order to carry out their statutory and other regulatory responsibilities.

CATEGORIES OF INDIVIDUALS COVERED BY THIS SYSTEM:

Individuals covered by this system are those who are named in notices filed: (1) Under 12 CFR 5.51 as proposed directors or senior executive officers of a national bank, Federal savings association, or federal branches of foreign banks (Section 5.51-regulated entities) when the entities:

(a) Have a composite rating of 4 or 5 under the Uniform Financial Institutions Rating System;

(b) Are subject to cease and desist orders, consent orders, or formal written agreements, unless otherwise informed in writing by the OCC;

(c) Have been determined, in writing, by the OCC to be in “troubled condition”;

(d) Are not in compliance with minimum capital requirements prescribed under 12 CFR part 3; or

(e) Have been advised by the OCC, in connection with its review of an entity's capital restoration plan, that such filings are appropriate;

(2) those named in notices submitted in accordance with the requirements of an order, condition imposed in writing, or other written agreement pursuant to 12 U.S.C. 1818(b);

(3) those named in notices filed pursuant to similar authorities with other federal financial institution supervisors and who are the subject of requests for background information made to the OCC by the other supervisors; and

(4) those named in requests for background information submitted to the OCC by foreign supervisors.

CATEGORIES OF RECORDS IN THE SYSTEM:

Records maintained in this Privacy Act system may contain: The names, charter numbers, and locations of the OCC-regulated institutions that have submitted notices; the names, addresses, dates of birth, social security numbers, fingerprints, financial statements, tax information, criminal background check information, and other biographical information of individuals proposed as either directors or senior executive officers; and the actions taken by the OCC in connection with these notices.

RECORD SOURCE CATEGORIES:

Information maintained in this system is obtained from OCC-regulated entities; individuals named in notices filed pursuant to 5 CFR 5.51or in accordance with the requirements of an order, condition imposed in writing, or other written agreement pursuant to 12 U.S.C. 1818(b); federal or state financial regulatory agencies; foreign regulators; criminal law enforcement authorities; and credit bureaus.

ROUTINE USES OF RECORDS MAINTAINED IN THE SYSTEM, INCLUDING CATEGORIES OF USERS AND PURPOSES OF SUCH USES:

Information maintained in this system may be disclosed to:

(1) A Section 5.51-regulated entity or an entity in connection with review and action on a notice filed by such entity;

(2) Third parties to the extent necessary to obtain information that is pertinent to the OCC's review and action on a notice received under any authority cited herein;

(3) Appropriate governmental or self-regulatory organizations when the OCC determines that the records are relevant and necessary to the governmental or self-regulatory organization's regulation or supervision of financial service providers, including the review of the qualifications and fitness of individuals who are or propose to become responsible for the business operations of such financial service providers;

(4) An appropriate governmental, tribal, self-regulatory, or professional organization if the information is relevant to a known or suspected violation of a law or licensing standard within that organization's jurisdiction;

(5) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(6) A congressional office when the information is relevant to an inquiry made at the request of the individual about whom the record is maintained;

(7) A contractor or agent who needs to have access to this system of records to perform an assigned activity;

(8) Third parties when mandated or authorized by statute; or

(9) To appropriate agencies, entities, and persons when (a) the Department of the Treasury and/or the OCC suspects or has confirmed that there has been a breach of the system of records; (b) the Department of the Treasury and/or the OCC has determined that as a result of the suspected or confirmed breach there is a risk of harm to individuals, the Department of the Treasury and/or the OCC (including its information systems, programs, and operations), the Federal Government, or national security; and (c) the disclosure made to such agencies, entities, and persons is reasonably necessary to assist in connection with the Department of the Treasury's and/or the OCC's efforts to respond to the suspected or confirmed breach or to prevent, minimize, or remedy such harm;

(10) To another Federal agency or Federal entity, when the Department of the Treasury and/or OCC determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

POLICIES AND PRACTICES FOR STORAGE OF RECORDS:

Records maintained in this system are stored electronically.

POLICIES AND PRACTICES FOR RETRIEVAL OF RECORDS:

Records maintained in this system may be retrieved by the name or other personal identifier of an individual covered by the system.

POLICIES AND PRACTICES FOR RETENTION AND DISPOSAL OF RECORDS:

Records are retained in accordance with the OCC Comprehensive Record Retention Schedule, Section 2.3A with a 30-year disposition; OCC's records management policies; and National Archives and Records Administration regulations.

ADMINISTRATIVE, TECHNICAL, AND PHYSICAL SAFEGUARDS:

Access to this system is restricted to authorized personnel who have a bona fide business reason to access the information contained in the system and have been issued non-transferrable access codes and passwords.

RECORD ACCESS PROCEDURES:

An individual wishing to obtain access to non-exempt records maintained in this system must submit a written request to the Freedom of Information Act Officer, Communications Division, (202) 649-6758, Office of the Comptroller of the Currency, 400 Seventh Street SW, Room 3E-218, Washington, DC 20219-0001. An individual seeking access through mail must establish his or her identity by providing a signature and an address as well as one other identifier bearing the individual's name and signature (such as a photocopy of a driver's license or other official document). An individual seeking access in person must establish his or her identity by providing proof in the form of a single official document bearing a photograph (such as a passport or identification badge) or two items of identification that bear both a name and signature. Alternatively, identity may be established by providing a notarized statement, swearing or affirming to an individual's identity, and to the fact that the individual understands the penalties provided in 5 U.S.C. 552a(i)(3) for requesting or obtaining information under false pretenses. Additional documentation establishing identity or qualification for notification may be required, such as in an instance where a legal guardian or representative seeks notification on behalf of another individual. See 31 CFR part 1, subpart C, Appendix J.

CONTESTING RECORDS PROCEDURES:

An individual wishing to be notified about how he or she can contest the content of any record pertaining to him or her in this system should request notification in writing to the Freedom of Information Act Officer, Communications Division, (202) 649-6758, Office of the Comptroller of the Currency, 400 Seventh Street SW, Room 3E-218, Washington, DC 20219-0001. Such a request will be subject to the same identification requirements as above in “Record Access Procedures.” See 31 CFR part 1, subpart C, Appendix J.

NOTIFICATION PROCEDURES:

An individual wishing to be notified if he or she is named in non-exempt records maintained in this system must submit a written request to the Freedom of Information Act Officer, Communications Division, (202) 649-6758, Office of the Comptroller of the Currency, 400 Seventh Street SW, Room 3E-218, Washington, DC 20219-0001. Such a request will be subject to the same identification requirements as above in “Record Access Procedures.” See 31 CFR part 1, subpart C, Appendix J.

EXEMPTIONS PROMULGATED FOR THIS SYSTEM:

The Secretary of the Department of the Treasury has exempted this system from the following provisions of the Privacy Act, subject to the limitations set forth in 5 U.S.C. 552a(c)(3), (d)(1), (2), (3), and (4), (e)(1), (e)(4)(G), (H), and (I), and (f) of the Privacy Act pursuant to 5 U.S.C. 552a(j)(2) and (k)(2). See 31 CFR 1.36.

HISTORY:

This system of records notice was last published on January 19, 2016, at 81 FR 2945.

[FR Doc. 2019-22408 Filed 10-17-19; 8:45 am]

BILLING CODE 4810-33-P